GENERAL ACCOUNTING OFFICE

[Document No. JFMIP-SR-03-02]

Joint Financial Management Improvement Program (JFMIP)—Federal Financial Management System Requirements (FFMSR)

AGENCY: Joint Financial Management Improvement Program (JFMIP).

ACTION: Notice of document availability.

SUMMARY: The JFMIP is seeking public comment on an exposure draft entitled “Inventory, Supplies, and Materials System Requirements,” dated April 2003. The draft is a re-write of the Federal Financial Management System Requirements (FFMSR) document that addresses standard financial requirements for Federal inventory systems. The document is intended to assist agencies when developing, improving or evaluating systems for inventory held for sale, operating supplies and materials, and stockpile materials. It provides the baseline functionality that agency systems must have to support agency missions and comply with laws and regulations. When issued in final, the document will augment the existing body of FFMSR that define financial system functional requirements which are used in evaluating compliance with the Federal Management Improvement Act (FFMIA) of 1996.

DATES: Comments are due by June 23, 2003.

ADDRESSES: Copies of the exposure draft have been transmitted to senior financial officials chief information officers, together with a transmittal memo listing items of interest for which JFMIP is soliciting feedback. The Exposure Draft and transmittal memo are available on the JFMIP Web site: http://WWW.JFMIP.GOV. Responses should be addressed to JFMIP, 1990 K Street, NW., Suite 430, Washington, DC 20006.

FOR FURTHER INFORMATION CONTACT: Elvon C. Lloyd, (202) 219-0532 or elvon.lloyd@gsa.gov.

SUPPLEMENTARY INFORMATION: The FFMIA of 1996 mandated that agencies implement and maintain systems that comply substantially with FFMSR, applicable Federal accounting standards, and the U.S. Government Standard General Ledger at the transaction level. The FFMIA statute codified the JFMIP financial system requirements documents as a key benchmark that agency systems must meet to substantially comply with systems requirements provisions under FFMIA. To support the provisions outlined in the FFMIA, the JFMIP is updating obsolete requirements documents and publishing additional requirements documents. Comments received will be reviewed and the exposure draft will be revised as necessary. Publication of the final document will be mailed to agency financial officials, chief information officers, and others, and will be available on the JFMIP Web site.

Karen Cleary Alderman.
Executive Director, Joint Financial Management Improvement Program.

[FR Doc. 03-10246 Filed 4-24-03; 8:45 am]

BILLING CODE 1610-02-M